DEPARTMENT OF AGRICULTURE

Rural Utilities Service

RIN 0572-ZA01

Broadband Initiatives Program

AGENCY: Rural Utilities Service, Department of Agriculture.

ACTION: Notice of Extension of filing Public Notice Requests on Pending Round Two BIP Applications and of the Application Window for Request for Proposals.

SUMMARY: Due to emergency maintenance issues on May 14, 2010, the Rural Utilities Service (RUS) is extending, by one day, the deadline for submitting Public Notice Requests (PNRs) on pending applications filed under Second Round Notice of Funds Availability (Second Round NOFA) for the Broadband Initiatives Program (BIP), published in the Federal Register at 75 FR 3820 (January 22, 2010). Such technical issues also affected the application window for satellite, rural library broadband, and technical assistance projects under BIP's Request for Proposals (RFP), published in the Federal Register at 75 FR 25185 (May 7, 2010). As a result, PNRs on pending Second Round NOFA applications must be filed by May 24, 2010, at 11:59 p.m. Central Time (CT); and applications for satellite, rural library broadband, and technical assistance projects must be postmarked by June 8, 2010.

Contact Information: For general inquiries regarding BIP, contact David J. Villano, Assistant Administrator Telecommunications Program, Rural Utilities Service, U.S. Department of Agriculture (USDA), e-mail: bip@wdc.usda.gov, telephone: (202) 690-0525.

Dated: May 19, 2010.
Jessica Zufolo,
Acting Administrator, Rural Utilities Service.

[FR Doc. 2010-12399 Filed 5-21-10; 8:45 am]

BILLING CODE P